DEPARTMENT OF TRANSPORTATION

Federal Aviation Administration

14 CFR Part 39

[Docket No. FAA-2004-18606; Directorate Identifier 2004-CE-17-AD]

RIN 2120-AA64

Airworthiness Directives; Bombardier Inc. Model (Otter) DHC-3 Airplanes

AGENCY: Federal Aviation Administration (FAA), DOT.

ACTION: Notice of proposed rulemaking (NPRM).

SUMMARY: The FAA proposes to adopt a new airworthiness directive (AD) for all Bombardier Inc. Model (Otter) DHC-3 airplanes that have been modified by 524085 BC, Ltd. Supplemental Type Certificate (STC) Number ST01243NY. This proposed AD would require you to replace the existing Viking Air Ltd. elevator servo tab assembly with a redesigned Viking Air Ltd. elevator servo tab assembly. This proposed AD is the result of mandatory continuing airworthiness information (MCAI) issued by the airworthiness authority for Canada. There has been one failure of the elevator servo tab assembly. We are issuing this proposed AD to prevent the structural failure of the elevator servo tab. This failure could lead to loss of control of the airplane.

DATES: We must receive any comments on this proposed AD by September 21, 2004.

ADDRESSES: Use one of the following to submit comments on this proposed AD:

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

You may get the service information identified in this proposed AD from Bombardier Inc., Regional Aircraft, 123 Garratt Boulevard, Downsview, Ontario, Canada M3K 1Y5.

You may view the comments to this proposed AD in the AD docket on the Internet at http://dms.dot.gov.

FOR FURTHER INFORMATION CONTACT: David Lawson, Aerospace Engineer, ANE-171, New York Aircraft Certification Office, 1600 Stewart Ave., Suite 410, Westbury, NY 11590; telephone: 516-228-7327; facsimile: 516-794-5531.

SUPPLEMENTARY INFORMATION:

Comments Invited

How do I comment on this proposed AD? We invite you to submit any written relevant data, views, or arguments regarding this proposal. Send your comments to an address listed under ADDRESSES. Include the docket number, “FAA-2004-18606; Directorate Identifier, 2004-CE-17-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2004-18606. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? Transport Canada, which is the airworthiness authority for Canada, recently notified FAA that an unsafe condition may exist on certain Bombardier Inc. Model (Otter) DHC-3 airplanes that incorporate 524085 BC, Ltd. STC Number ST01243NY. Transport Canada reports one incident of structural failure of the elevator servo tab balance assembly.

What is the potential impact if FAA took no action? Vibration may cause structural failure of the elevator servo tab. This failure could lead to loss of control of the airplane.

Is there service information that applies to this subject? Viking has issued Service Bulletin Number V3/01, dated March 6, 2002.

What are the provisions of this service information? The service bulletin includes procedures for:

—Removing the existing elevator servo tab assembly;

—Installing the new elevator servo tab assembly (PN V3TE1137-1); and

—Balancing the elevator servo tab assembly.

What action did Transport Canada take? Transport Canada classified this service bulletin as mandatory and issued Canadian AD Number CF-2002-48, dated November 21, 2002, to ensure the continued airworthiness of these airplanes in Canada.

Did Transport Canada inform the United States under the bilateral airworthiness agreement? These Bombardier Inc. Model (Otter) DHC-3 airplanes are manufactured in Canada and are type-certificated for operation in the United States under the provisions of section 21.29 of the Federal Aviation Regulations (14 CFR 21.29) and the applicable bilateral airworthiness agreement.

Under this bilateral airworthiness agreement, Transport Canada has kept us informed of the situation described above.

FAA's Determination and Requirements of This Proposed AD

What has FAA decided? We have examined Transport Canada's findings, reviewed all available information, and determined that AD action is necessary for products of this type design that are certificated for operation in the United States.

Since the unsafe condition described previously is likely to exist or develop on other Bombardier Inc. Model (Otter) DHC-3 airplanes of the same type design that are registered in the United States, we are proposing AD action to prevent structural failure of the elevator servo tab. This failure could lead to loss of control of the airplane.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 11 airplanes in the U.S. registry.

What would be the cost impact of this proposed AD on owners/operators of the affected airplanes? We estimate the following costs to accomplish this proposed modification:

Labor cost | Parts cost | Total cost per airplane | Total cost on U.S. operators
7.5 workhours × $65 per hour = $488 | $2,630 (The operator may return the original parts to Viking Air Ltd. for credit.) | $3,118 | $34,298

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-18606; Directorate Identifier 2004-CE-17-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier Inc.: Docket No. FAA-2004-18606; Directorate Identifier 2004-CE-17-AD

When Os the Last Date I Can Submit Comments on This Proposed AD?

(a) We must receive comments on This proposed airworthiness directive (AD) by September 21, 2004.

What Other ADs Are Affected By This Action?

(b) None.

What Airplanes Are Affected by This AD?

(c) This AD affects the following airplane models and serial numbers that are certificated in any category: All Bombardier Inc. Model (Otter) DHC-3 airplanes incorporating 524085 BC, Ltd. Supplemental Type Certificate Number ST01243NY.

What Is the Unsafe Condition Presented in This AD?

(d) This AD is the result of one incident of structural failure of the elevator servo tab balance assembly. The actions specified in this AD are intended to prevent the structural failure of the elevator servo tab, which could lead to loss of control of the airplane.

What Must I Do To Address This Problem?

(e) To address this problem, you must do the following:

Actions | Compliance | Procedures
(1) Replace the elevator servo tab assembly, consisting of the following Part Numbers (P/N), with the redesigned elevator servo tab assembly, P/N V3TE1137-1: (i) P/N C3TE13-12 (ii) P/N VALTOC1136-2 (iii) P/N NAS40-2A-LT | Replace the elevator servo tab assembly within 300 hours time-in-service (TIS) after the effective date of this AD | Follow Viking Air Ltd. Service Bulletin V3/01, dated March 6, 2002.
(2) Balance the servo tab assembly to achieve a nose heavy static moment within the limits set by Viking Air Ltd. Service Bulletin V3/01, dated March 6, 2002 | After installation of the redesigned servo tab assembly, balance prior to further flight | Follow Viking Air Ltd. Service Bulletin V3/01, dated March 6, 2002.
(3) Do not install any of the following part numbers: (i) P/N C3TE13-12 (ii) P/N VALTOC1136-2 (iii) P/N NAS40-2A-LT | The part numbers should not be installed as of the effective date of this AD | Not applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact David Lawson, Aerospace Engineer, ANE-171, New York Aircraft Certification Office, 1600 Stewart Ave., Suite 410, Westbury, NY 11590; telephone: 516-228-7327; facsimile: 516-794-5531.

May I Get Copies of the Documents Referenced in This AD?

(g) You may get copies of the documents referenced in this AD from Bombardier Inc., Regional Aircraft, 123 Garratt Boulevard, Downsview, Ontario, Canada M3K 1Y5. You may view the AD docket at the Docket Management Facility; U.S. Department of Transportation, 400 Seventh Street, SW., Nassif Building, Room PL-401, Washington, DC, or on the Internet at http://dms.dot.gov.

Is There Other Information That Relates to This Subject?

(h) Transport Canada Airworthiness Directive Number CF-2002-48, dated November 21, 2002, and Viking Air Ltd. Service Bulletin Number V3/01, dated March 6, 2002, also address the subject of this AD.

Issued in Kansas City, Missouri, on July 22, 2004.
Dorenda D. Baker,
Manager, Small Airplane Directorate, Aircraft Certification Service.

[FR Doc. 04-17285 Filed 7-28-04; 8:45 am]

BILLING CODE 4910-13-P